DEPARTMENT OF COMMERCE

International Trade Administration

[C-821-841]

Unwrought Palladium From the Russian Federation: Postponement of Preliminary Determination in the Countervailing Duty Investigation

AGENCY: Enforcement and Compliance, International Trade Administration, Department of Commerce.

DATES: Applicable September 30, 2025.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On August 19, 2025, the U.S. Department of Commerce (Commerce) initiated a countervailing duty (CVD) investigation of imports of unwrought palladium from the Russian Federation.¹

¹ See Unwrought Palladium from the Russian Federation: Initiation of Countervailing Duty Investigation, 90 FR 41039 (August 22, 2025).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 3, 2025, the petitioners ² submitted a timely request that Commerce postpone the preliminary CVD determination.³ The petitioners stated that they request postponement “for reasons including the novelty of the issues and the number and complexity of the subsidy programs under investigation.” ⁴ In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which this investigation was initiated, i.e., December 29, 2025.⁵ Pursuant to section 705(a)(1) of the Act and 19 CFR 351.210(b)(1), the deadline for the final determination of this investigation will continue to be 75 days after the date of the preliminary determination.

² The petitioners are Stillwater Mining Company d/b/a Sibanye-Stillwater and the United Steel, Paper, and Forestry, Rubber, Manufacturing, Energy, Industrial and Service Workers International Union, AFL-CIO, CLC (collectively, the petitioners).

³ See Petitioners' Letter, “Request to Extend the Preliminary Determination,” dated September 3, 2025.

⁴ Id.

⁵ Postponing the preliminary determination to 130 days after initiation would place the deadline on Saturday, December 27, 2025. Commerce's practice dictates that, where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published in accordance with sections 703(c)(2) of the Act and 19 CFR 351.205(f)(1).

Dated: September 25, 2025.
Christopher Abbott,
Deputy Assistant Secretary for Policy and Negotiations, performing the non-exclusive functions and duties of the Assistant Secretary for Enforcement and Compliance.

[FR Doc. 2025-19031 Filed 9-29-25; 8:45 am]

BILLING CODE 3510-DS-P